DEPARTMENT OF AGRICULTURE

Forest Service

Hoosier National Forest, IN; German Ridge Restoration Project

AGENCY: Forest Service, USDA.

ACTION: Notice of availability of an environmental impact statement.

SUMMARY: The USDA Forest Service, Hoosier National Forest has completed a final environmental impact statement (FEIS) to disclose the environmental consequences of a vegetation restoration project. The FEIS addresses the potential environmental impacts of replacing pine plantations in the German Ridge area of Perry County, Indiana with native hardwood communities.

Copies: To receive a CD of the FEIS, request one from Ron Ellis, NEPA Coordinator; Hoosier National Forest; 811 Constitution Avenue; Bedford, IN 47421. To request a CD electronically, send a message with your request to r9_hoosier_website@fs.fed.us. If a hard copy is desired instead, use the same contact information.

Appeal Period: The publication date of the legal notice in the newspaper of record (The Hoosier Times, published in Bloomington and Bedford, Indiana) is the exclusive means for calculating the period for filing an appeal. An appeal must be filed within 45 days of the date of publication of the legal notice.

ADDRESSES: Regional Forester Randy Moore is the Deciding Official with whom an appeal is to be filed. His address is: 626 East Wisconsin Ave.; Milwaukee, WI 53202; electronic submission of an appeal: appeals-eastern-regional-office@fs.fed.us (dashes, not underscores); electronic file formats; txt, html, pdf, or any file format viewable in Microsoft Office applications; fax: 414-944-3963; office hours (for those hand delivering an appeal): 7:30 a.m. to 4 p.m. Central Standard Time, Monday-Friday.

FOR FURTHER INFORMATION CONTACT: Ron Ellis, NEPA Coordinator, Hoosier National Forest, USDA Forest Service; telephone: 812-275-5987. Address under Copies. Another means of obtaining information is to visit the Forest Web page at www.fs.fed.us/r9/hoosier—click on “Forest Projects”, then “Scoping Package,” and finally “German Ridge Restoration.”

Preferred Alternative

The preferred alternative is to implement the proposed action, which would fulfill the goals and objectives of the Forest Plan involving the restoration of native communities; replace pine plantations with native hardwood communities that include a strong component of oaks, hickories, and other fire-adapted plants; and restore natural vegetative conditions to the barrens within the project area.

To accomplish those goals, the Hoosier National Forest would during the next six or seven years: (1) Use prescribed burning on approximately 2,170 acres, (2) thin approximately 215 acres, (3) implement pine removal on approximately 355 acres, and (4) complete shelterwood harvest on approximately 120 acres. Additional activities would also be pursued to improve wildlife habitat, maintain a recreational trail, and enhance vegetation conditions within the project area.

Responsible Official

Kenneth G. Day, Forest Supervisor; Hoosier National Forest; 811 Constitution Avenue; Bedford, Indiana 47421.

(Authority: 40 CFR 1501.7 and 1508.22; Forest Service Handbook 1909.15, Section 21)

Dated: October 21, 2005.
Kenneth G. Day,
Forest Supervisor.

[FR Doc. 05-21764 Filed 10-31-05; 8:45 am]

BILLING CODE 3410-11-M